DEPARTMENT OF COMMERCE

National Oceanic and Atmospheric Administration

50 CFR Part 660

[I.D. 012800F]

Western Pacific Fishery Management Council; Public Meeting

AGENCY: National Marine Fisheries Service (NMFS), National Oceanic and Atmospheric Administration (NOAA), Commerce.

ACTION: Notice of public meeting.

SUMMARY: The Western Pacific Fishery Management Council (Council) will hold a meeting to give the public an opportunity to comment on a regulatory amendment to be implemented under the framework process of the Council's Pelagics Fishery Management Plan. The measure would establish a 50-nautical mile (nm) closure to pelagic fishing vessels larger than 50 ft (15.24 m) around Tutuila and Manua Islands, and a 30-nm closure around Swain's Atoll.

DATES: The meeting will be held February 17, 2000, from 3:00 p.m. to 5:00 p.m.

ADDRESSES: The meeting will be held in the conference room at the Department of Marine and Wildlife Resources (DMWR) in American Samoa at the address given here. Copies of the background material summarizing the Council's previous deliberations, rationale, and analysis of the preferred alternative may be obtained from the DMWR, P.O. Box 3730, Pago Pago, American Samoa 96799.

FOR FURTHER INFORMATION CONTACT: Ray Tulafono, Director, DMWR; telephone 684-633-4456.

SUPPLEMENTARY INFORMATION: This meeting is being convened to give the public in American Samoa the opportunity to comment on a revised framework measure under the Council's Fishery Management Plan for the Pelagic Fisheries of the Western Pacific region. In December 1997, at its 94th Meeting, the Council voted to recommend a closed area from which large (greater than 50 ft (15.24 m)) pelagic fishing vessels would be excluded to protect the small vessel longline fishery in American Samoa. That proposed revision was adopted under the two-meeting framework process. The measure would have established a 50-nm closure to pelagic fishing vessels larger than 50 ft (15.24 m) around Tutuila and Manua Islands, and a 30-nm closure around Swain's Atoll. The recommended closure was sent to the NMFS Southwest Regional Administrator in October 1998 but was disapproved in March 1999, with the advice that it could be re-submitted if amended to include greater justification for closed areas under National Standard 8 of the Magnuson-Stevens Fishery Conservation and Management Act.

Subsequently a revision of the framework measure has been drafted that includes a preferred alternative to implement a 50-nm closure to pelagic fishing vessels larger than 50 ft (15.24 m) around Tutuila and Manua Islands, and a 30-nm closure around Swain's Atoll. The Council will take final action on this framework measure at its 102nd meeting which will be held between February 28 and March 2, 2000, in Honolulu, HI.

Special Accommodations

This meeting is physically accessible to people with disabilities. Requests for sign language interpretation or other auxiliary aids should be directed to Ray Tulafono, 684-633-4456 (voice), or 684-633-5944 (fax), at least 5 days prior to the meeting date.

Authority: 16 U.S.C. 1801 et seq.

Dated: February 8, 2000.
Bruce C. Morehead,
Acting Director, Office of Sustainable Fisheries, National Marine Fisheries Service.

[FR Doc. 00-3213 Filed 2-8-00; 4:34 pm]

BILLING CODE 3510-22-F